DEPARTMENT OF DEFENSE

Department of the Air Force

Extension of Public Comment Period for the Environmental Impact Statement on the Proposed Relocation of 18th Aggressor Squadron to Joint Base Elmendorf-Richardson, Alaska

ACTION: Notice.

SUMMARY: The U.S. Air Force is issuing this notice to advise the public of an extension to the public comment period on the environmental impact statement on the proposed relocation of the 18th Aggressor Squadron to Joint Base Elmendord-Richardson, Alaska. The initial Notice of Availability published in the Federal Register on May 31, 2013 (78 FR 32645), and established a public comment period from May 31 through August 2, 2013. The Air Force has extended the deadline for submitting public comments to August 30, 2013. All substantive comments received by August 30, 2013 will be addressed in the Public Comment Section of the Final EIS.

FOR FURTHER INFORMATION CONTACT: Please direct any written comments or requests for information to Mr. Allen Richmond, AFCEC/CZN, 2261 Hughes Ave, Ste 155, Lackland AFB, TX 78236-9853.

Henry Williams Jr,
DAF, Acting Air Force Federal Register Liaison Officer.

[FR Doc. 2013-19048 Filed 8-6-13; 8:45 am]

BILLING CODE 5001-10-P